DEPARTMENT OF TRANSPORTATION

Surface Transportation Board

[STB Finance Docket No. 34954]

Commonwealth Railway, Inc.—Acquisition and Operation Exemption—Norfolk Southern Railway Company

Commonwealth Railway, Inc. (CWRY), a Class III rail carrier, has filed a verified notice of exemption under 49 CFR 1150.41 to acquire and operate approximately 12.5 miles of rail line owned by Norfolk Southern Railway Company (NS) between milepost F-4.0 and milepost F-16.5 near Portsmouth, VA. CWRY currently operates the subject line pursuant to a lease with an option to purchase from NS (as the successor to Norfolk and Western Railway Company).¹ CWRY states that it has agreed to grant NS and CSX Transportation, Inc. (CSXT) trackage rights over a portion of the subject line between milepost F-16.5 and approximately milepost F-9.9 to allow each connecting carrier equal access to CWRY and the rail line.²

¹ See Commonwealth Railway Incorporated—Lease, Operation, and Acquisition Exemption—Rail Lines in Portsmouth, Chesapeake, and Suffolk, VA, Finance Docket No. 31528 (ICC served Sept. 8, 1989). As part of that transaction, CWRY also acquired a 3.92-mile line of railroad between milepost F-0.8 and milepost F-4.0.

² According to CWRY, both NS and CSXT will seek the Board's approval for the trackage rights in separate filings.

CWRY certifies that its projected revenues as a result of this transaction will not result in the creation of a Class II or Class I rail carrier, and that its projected annual revenues will not exceed $5 million. CWRY states that the parties intend to consummate the transaction after November 28, 2006 (the effective date of the exemption).

If the verified notice contains false or misleading information, the exemption is void ab initio. Petitions to revoke the exemption under 49 U.S.C. 10502(d) may be filed at any time. The filing of a petition to revoke will not automatically stay the transaction.

An original and 10 copies of all pleadings, referring to STB Finance Docket No. 34954, must be filed with the Surface Transportation Board, 1925 K Street, NW., Washington, DC 20423-0001. In addition, a copy of each pleading must be served on: Eric M. Hocky, Four Penn Center, Suite 200, 1600 John F. Kennedy Blvd., Philadelphia, PA 19103-2808.

Board decisions and notices are available on our Web site at http://www.stb.dot.gov.

Decided: December 12, 2006.
By the Board, David M. Konschnik, Director, Office of Proceedings.
Vernon A. Williams,
Secretary.

[FR Doc. E6-21614 Filed 12-20-06; 8:45 am]

BILLING CODE 4915-01-P